DEPARTMENT OF THE INTERIOR

National Park Service

[NPS-WASO-NAGPRA-NPS0038505; PPWOCRADN0-PCU00RP14.R50000]

Notice of Intended Repatriation: American Museum of Natural History, New York, NY

AGENCY: National Park Service, Interior.

ACTION: Notice.

SUMMARY: In accordance with the Native American Graves Protection and Repatriation Act (NAGPRA), the American Museum of Natural History (AMNH) intends to repatriate a certain cultural item that meets the definition of a sacred object and that has a cultural affiliation with the Native Hawaiian organizations in this notice.

DATES: Repatriation of the cultural item in this notice may occur on or after September 20, 2024.

ADDRESSES: Nell Murphy, American Museum of Natural History, Central Park West at 79th Street, New York, NY 10024, telephone (212) 769-5837, email nmurphy@amnh.org.

SUPPLEMENTARY INFORMATION: This notice is published as part of the National Park Service's administrative responsibilities under NAGPRA. The determinations in this notice are the sole responsibility of the AMNH, and additional information on the determinations in this notice, including the results of consultation, can be found in the summary or related records. The National Park Service is not responsible for the determinations in this notice.

Abstract of Information Available

A total of one cultural item has been requested for repatriation. The one sacred object is a mahiole or feather helmet. The cultural item was found in storage. However, based on Museum records, consultation as well as information in the published literature, the item is presumed to have originated in Hawai'i. In 1907, it was recorded in the Museum's catalog as a feather helmet from the Hawaiian Islands, Collector Unknown. A catalog card located in the Division of Anthropology Archives dates the helmet to pre-1907, as this is the year it appears to have been located. The Collector is unknown.

Determinations

The American Museum of Natural History has determined that:

• The one sacred object described in this notice are specific ceremonial objects needed by a traditional Native American religious leader for present-day adherents to practice traditional Native American religion, according to the Native American traditional knowledge of a lineal descendant, Indian Tribe, or Native Hawaiian organization

• There is a reasonable connection between the cultural item described in this notice and the Na Hoa Aloha O Ka Pu'uhonua o Hönaunau and the Office of Hawaiian Affairs.

Requests for Repatriation

Additional, written requests for repatriation of the cultural item in this notice must be sent to the authorized representative identified in this notice under ADDRESSES. Requests for repatriation may be submitted by any lineal descendant or Native Hawaiian organization not identified in this notice who shows, by a preponderance of the evidence, that the requestor is a lineal descendant or a culturally affiliated Native Hawaiian organization.

Repatriation of the cultural item in this notice to a requestor may occur on or after September 20, 2024. If competing requests for repatriation are received, the AMNH must determine the most appropriate requestor prior to repatriation. Requests for joint repatriation of the cultural items are considered a single request and not competing requests. The AMNH is responsible for sending a copy of this notice to the Native Hawaiian organizations identified in this notice.

Authority: Native American Graves Protection and Repatriation Act, 25 U.S.C. 3004 and the implementing regulations, 43 CFR 10.9.

Dated: August 7, 2024.
Melanie O'Brien,
Manager, National NAGPRA Program.

[FR Doc. 2024-18683 Filed 8-20-24; 8:45 am]

BILLING CODE 4312-52-P